COMMITTEE FOR PURCHASE FROM PEOPLE WHO ARE BLIND OR SEVERELY DISABLED

Procurement List; Addition and Deletions

AGENCY: Committee for Purchase From People Who Are Blind or Severely Disabled.

ACTION: Addition to and Deletions from the Procurement List.

SUMMARY: This action adds a service to the Procurement List that will be provided by a nonprofit agency employing persons who are blind or have other severe disabilities, and deletes products and services from the Procurement List previously furnished by such agencies.

DATES: Effective Date: 1/16/2012.

ADDRESSES: Committee for Purchase From People Who Are Blind or Severely Disabled, Jefferson Plaza 2, Suite 10800, 1421 Jefferson Davis Highway, Arlington, Virginia 22202-3259.

FOR FURTHER INFORMATION CONTACT: Patricia Briscoe, Telephone: (703) 603-7740, Fax: (703) 603-0655, or email CMTEFedReg@AbilityOne.gov.

SUPPLEMENTARY INFORMATION:

Addition

On 9/30/2011 (76 FR 60810), the Committee for Purchase From People Who Are Blind or Severely Disabled published a notice for the proposed addition to the Procurement List.

After consideration of the material presented to it concerning capability of the qualified nonprofit agency to provide the service and impact of the addition on the current or most recent contractors, the Committee has determined that the service listed below is suitable for procurement by the Federal Government under 41 USC Chapter 85 and 41 CFR 51-2.4.

Regulatory Flexibility Act Certification

I certify that the following action will not have a significant impact on a substantial number of small entities. The major factors considered for this certification were:

1. The action will not result in any additional reporting, recordkeeping or other compliance requirements for small entities other than the small organization that will provide the service to the Government.

2. The action will result in authorizing small entities to provide the service to the Government.

3. There are no known regulatory alternatives which would accomplish the objectives of the Javits-Wagner-O'Day Act (41 USC Chapter 85) in connection with the service proposed for addition to the Procurement List.

End of Certification

Accordingly, the following service is added to the Procurement List:

Service

Service Type/Locations: Custodial Services, Radiological and Environmental Sciences Laboratory (RESL), IF Buildings 601 and 683, 2351 North Boulevard, Idaho Falls, ID.

NPA: Development Workshop, Inc., Idaho Falls, ID.

Contracting Activity: Department of Energy, Idaho Operations Office, Idaho Falls, ID.

Deletions

On 7/8/2011 (76 FR 40342-40343); 7/22/2011 (76 FR 43990-43991); 8/19/2011 (76 FR 51955-51956); 9/2/2011 (76 FR 54741-54742); 9/30/2011 (60810); and 10/7/2011 (76 FR 62391-62393), the Committee for Purchase From People Who Are Blind or Severely Disabled published notices of proposed deletions from the Procurement List.

After consideration of the relevant matter presented, the Committee has determined that the products and services listed below are no longer suitable for procurement by the Federal Government under 41 USC Chapter 85 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 USC Chapter 85) in connection with the products and services deleted from the Procurement List.

End of Certification

Accordingly, the following products and services are deleted from the Procurement List:

Products

NSN: 7290-00-130-3271—Cover, Ironing Board.

NPA: Lions Services, Inc., Charlotte, NC.

Contracting Activity: General Services Administration, Fort Worth, TX.

NSN: 2090-00-372-6064—Repair Kit, Standard.

NPA: Mid-Valley Rehabilitation, Inc., McMinnville, OR.

Contracting Activity: Defense Logistics Agency Land and Maritime, Columbus, OH.

Line, Tent

NSNs: 8340-00-252-2291; 8340-00-263-0254; 8340-00-263-0255.

NPAs: ASPIRO, Inc., Green Bay, WI. Community Option Resource Enterprises, Inc., Billings, MT.

Contracting Activity: Defense Logistics Agency Troop Support, Philadelphia, PA.

Services

Service Type/Location: Janitorial/Custodial, Veterans Affairs Medical Center, 1540 Spring Valley Drive, Huntington, WV.

NPA: Goodwill Industries of KYOWVA Area, Inc., Huntington, WV.

Contracting Activity: Department of Veterans Affairs, NAC, Hines, IL

Service Type/Location: Administrative Services, Department of Agriculture: Rural Development Agency, St. Louis, MO.

NPA: St. Vincent DePaul Rehabilitation Services of Texas, Inc., Austin, TX

Contracting Activity: Department of Agriculture, Rural Development Agency USD, St. Louis, MO.

Service Type/Location: Recycling Service, Goodfellow Air Force Base: Basewide, Goodfellow AFB, TX.

NPA: MHMR Services for the Concho Valley, San Angelo, TX

Contracting Activity: Dept of the Air Force, Fa3030 17 CONS CC, Goodfellow AFB, TX.

Service Type/Location: Janitorial/Custodial, U.S. Federal Building and Customhouse, 721 19th Street, Denver, CO.

NPA: Platte River Industries, Inc., Denver, CO.

Contracting Activity: General Services Administration, Washington, DC.

Service Type/Location: Janitorial/Custodial, Social Security Administration District, 686 Nye Avenue—Office Building, Irvington, NJ.

NPA: The First Occupational Center of New Jersey, Orange, NJ.

Contracting Activity: General Services Administration, Public Buildings Service, Newark, NY.

Service Type/Location: Janitorial/Custodial,

USCG, Sandy Hook Detachment, 20 Crispin Road, Highlands, NJ.

NPA: The Center for Vocational Rehabilitation, Inc., Eatontown, NJ.

Contracting Activity: Department of Homeland Security, U.S. Coast Guard, Washington, DC.

Service Type/Location: Janitorial/Custodial, Buildings 1830, 1807, 2155, 4050, and 427, Fort Polk, LA.

NPA: Vernon Sheltered Workshop, Inc., Leesville, LA.

Contracting Activity: Dept of the Army, W6QM ft Polk DOC, Fort Polk, LA.

Service Type/Location: Laundry Service, Stratton Medical Center, 113 Holland Ave, Albany, NY.

NPA: Uncle Sam's House, Inc., Schenectady, NY.

Contracting Activity: Department of Veterans Affairs, NAC, Hines, IL.

Service Type/Location: Janitorial/Custodial, FBI Information Technology Center, 1203 Nealis Avenue, Fort Monmouth, NJ.

NPA: The Center for Vocational Rehabilitation, Inc., Eatontown, NJ.

Contracting Activity: Dept of Justice, Federal Bureau of Investigation, Washington, DC.

Patricia Briscoe,
Deputy Director, Business Operations (Pricing and Information Management).

[FR Doc. 2011-32243 Filed 12-15-11; 8:45 am]

BILLING CODE 6353-01-P